DEPARTMENT OF AGRICULTURE

Grain Inspection, Packers and Stockyards Administration

Amendment to the Designation of Mid-Iowa Grain Inspection

AGENCY: Grain Inspection, Packers and Stockyards Administration, USDA.

ACTION: Notice.

SUMMARY: Mid-Iowa Grain Inspection, Inc.'s (Mid-Iowa) geographical territory is amended to include the area previously designated to John R. McCrea Agency, Inc. (McCrea). Mid-Iowa purchased McCrea effective September 1, 2016, and met the requirements specified in GIPSA's General Regulations. The designation of Mid-Iowa is from July 1, 2016, to June 30, 2020.

DATES: Effective Date: September 1, 2016.

FOR FURTHER INFORMATION CONTACT: Jorge Vazquez, 816-866-2224 or FGIS.QACD@usda.gov.

SUPPLEMENTARY INFORMATION: The United States Grain Standards Act (USGSA) authorizes the Secretary to designate a qualified applicant to provide official services in a specified area after determining that the applicant is better able than any other applicant to provide such official services 7 U.S.C. 79(f). Under 7 U.S.C. 79(g), designations of official agencies are effective for no longer than five years, unless terminated by the Secretary, and may be renewed according to the criteria and procedures prescribed in 7 U.S.C. 79(f).

Mid-Iowa Designation

Pursuant to 7 U.S.C. 79(f)(2), the following geographic area, in the States of Minnesota, Illinois, and Iowa, is assigned to this official agency.

In Minnesota

Wabasha, Olmstead, Winona, Houston, and Fillmore Counties.

In Illinois

Carroll and Whiteside Counties.

In Iowa

Bounded on the North by the northern Winneshiek and Allamakee County lines; Bounded on the East by the eastern Allamakee County line; the eastern and southern Clayton County lines; the eastern Buchanan County line; the northern Jones and Jackson County lines; the eastern Jackson and Clinton County Lines; southern Clinton County Line; the eastern Cedar County line south to State Route 130; Bounded on the South by State Route 130 west to State Route 38; State Route 38 south to Interstate 80; Interstate 80 west to U.S. Route 63; and Bounded on the West by U.S. Route 63 north to State Route 8; State Route 8 east to State Route 21; State Route 21 north to D38; D38 east to V49; V49 north to Bremer County; the southern Bremer County line; the western Fayette and Winneshiek County lines.

The agency certifies that Mid-Iowa meets the criteria delineated in 7 CFR § 800.196(f)(2).

Authority: 7 U.S.C. 71-87k.

Susan B. Keith,
Acting Administrator, Grain Inspection, Packers and Stockyards Administration.

[FR Doc. 2016-25611 Filed 10-26-16; 8:45 am]

BILLING CODE 3410-KD-P